DEPARTMENT OF ENERGY

Secretary of Energy Advisory Board

AGENCY: Department of Energy.

ACTION: Notice of open meeting.

SUMMARY: This notice announces an open meeting of the Secretary of Energy Advisory Board (SEAB). SEAB was reestablished pursuant to the Federal Advisory Committee Act (Pub. L. 92-463, 86 Stat. 770) (the Act). This notice is provided in accordance with the Act.

DATES: Monday, August 15, 2011, 4 p.m.-6 p.m.

LOCATION: Teleconference.

FOR FURTHER INFORMATION CONTACT: Amy Bodette, Designated Federal Officer, U.S. Department of Energy, 1000 Independence Avenue, SW., Washington, DC 20585; telephone (202) 586-0383 or facsimile (202) 586-1441; seab@hq.doe.gov.

SUPPLEMENTARY INFORMATION: Background: The Board was reestablished to provide advice and recommendations to the Secretary on the Department's basic and applied research, economic and national security policy, educational issues, operational issues and other activities as directed by the Secretary.

Purpose of the Meeting: The Natural Gas subcommittee will present an interim report to the Board.

Tentative Agenda: The meeting will start at 4 p.m. on August 15th. The meeting agenda includes presentation of an interim report from the Natural Gas Subcommittee and discussion of the recommendations. A draft of the report will be made available at http://www.shalegas.energy.gov and http://www.energy.gov/seab no later than Thursday, August 11, 2011. The meeting will conclude at 6 p.m.

Public Participation: The meeting will be conducted by teleconference and is open to the public. Individuals who would like to call-in must RSVP to Amy Bodette no later than 5 p.m. on Wednesday, August 10, 2011 at seab@hq.doe.gov. There will be a limited number of call-in ports and RSVP is required to obtain dial-in information. Call-in ports will be made available to members of the public on a first come, first served basis. Individuals and representatives of organizations who would like to offer comments and suggestions may do so at the meeting on Monday, August 15, 2011. Approximately 30 minutes will be reserved for public comments. Time allotted per speaker will depend on the number who wish to speak but will not exceed 5 minutes. Public Comment will be available on a first come, first served basis and will be queued by the call operator. The Designated Federal Officer is empowered to conduct the meeting in a fashion that will facilitate the orderly conduct of business.

Those not able to call in to the meeting or have insufficient time to address the committee are invited to send a written statement to Amy Bodette, U.S. Department of Energy 1000 Independence Avenue, SW., Washington DC 20585, e-mail to seab@hq.doe.gov. Timely comments may also be posted online at http://www.shalegas.energy.gov.

Minutes: The minutes of the meeting will be available on the SEAB Web site http://www.energy.gov/SEAB or by contacting Ms. Bodette. She may be reached at the postal address or e-mail address above.

Issued in Washington, DC on July 26, 2011.
LaTanya Butler,
Acting Deputy Committee Management Officer.

[FR Doc. 2011-19242 Filed 7-28-11; 8:45 am]

BILLING CODE P